DEPARTMENT OF EDUCATION

34 CFR Chapter III

[ED-2023-OSERS-0177]

Proposed Waiver and Extension of the Project Period With Funding for Innovative Rehabilitation Training Grants

AGENCY: Office of Special Education and Rehabilitative Services (OSERS), Department of Education.

ACTION: Proposed waiver and extension of project period with funding.

SUMMARY: The Secretary proposes to waive the requirements in the Education Department General Administrative Regulations that generally prohibit project periods exceeding five years and project period extensions involving the obligation of additional Federal funds. The proposed waiver and extension would enable seven projects under Assistance Listing Number (ALN) 84.263C to receive funding for an additional period, not to exceed September 30, 2025.

DATES: We must receive your comments on or before November 2, 2023.

ADDRESSES: Comments must be submitted via the Federal eRulemaking Portal at www.regulations.gov. However, if you require an accommodation or cannot otherwise submit your comments via www.regulations.gov, please contact the program contact person listed under FOR FURTHER INFORMATION CONTACT. The Department will not accept comments submitted after the comment period. To ensure that we do not receive duplicate copies, please submit your comments only once. In addition, please include the Docket ID at the top of your comments.

Federal eRulemaking Portal: Go to www.regulations.gov to submit your comments electronically. Information on using Regulations.gov, including instructions for accessing agency documents, submitting comments, and viewing the docket, is available on the site under “FAQ.”

Privacy Note: OSERS's policy is generally to make comments received from members of the public available for public viewing in their entirety on the Federal eRulemaking Portal at www.regulations.gov. Therefore, commenters should include in their comments only information about themselves that they wish to make publicly available.

FOR FURTHER INFORMATION CONTACT: Kristen Rhinehart-Fernandez, U.S. Department of Education, 400 Maryland Avenue SW, Room 4A111, Washington, DC 20202-5076. Telephone: (202) 245-6103. Email: Kristen.Rhinehart@ed.gov.

If you are deaf, hard of hearing, or have a speech disability and wish to access telecommunications relay services, please dial 7-1-1.

SUPPLEMENTARY INFORMATION:

Invitation to Comment: We invite you to submit comments regarding this proposed waiver and extension. To ensure that your comments have maximum effect in developing the notice of final waiver and extension, we urge you to identify clearly the specific grantee or grantees (listed in the table under the Background section) that each comment addresses.

We invite you to assist us in complying with the specific requirements of Executive Orders 12866, 13563, and 14094 and their overall requirement of reducing regulatory burden that might result from the proposed waiver and extension. Please let us know of any further ways we could reduce potential costs or increase potential benefits while preserving the effective and efficient administration of the program.

During and after the comment period, you may inspect public comments about the proposed priority and definition by accessing Regulations.gov.

Assistance to Individuals With Disabilities in Reviewing the Rulemaking Record: On request, we will provide an appropriate accommodation or auxiliary aid to an individual with a disability who needs assistance to review the comments or other documents in the public rulemaking record for the proposed waiver and extension. If you want to schedule an appointment for this type of accommodation or auxiliary aid, please contact the person listed under FOR FURTHER INFORMATION CONTACT.

Background

On July 5, 2019, the Department of Education (Department) published in the Federal Register (84 FR 32135) a notice inviting applications for the Innovative Rehabilitation Training Program under ALN 84.263C to develop (a) new types of training programs for rehabilitation personnel and to demonstrate the effectiveness of these new types of training programs for rehabilitation personnel in providing rehabilitation services to individuals with disabilities; (b) new and improved methods of training rehabilitation personnel so that there may be a more effective delivery of rehabilitation services to individuals with disabilities by designated State rehabilitation agencies and designated State rehabilitation units or other public or non-profit rehabilitation service agencies or organizations; and (c) new innovative training programs for vocational rehabilitation (VR) professionals and paraprofessionals to have a 21st-century understanding of the evolving labor force and the needs of individuals with disabilities so they can more effectively provide VR services to individuals with disabilities.

The Innovative Rehabilitation Training Program funded in 2019 included six topic areas: (1) VR counseling, (2) VR services to individuals with Autism Spectrum Disorders, (3) VR services to individuals with intellectual disabilities, (4) career assessment for VR service recipients, (5) employer engagement in the VR process, and (6) a field-initiated project in an area related to VR. The project periods started on October 1, 2019, and will conclude on September 30, 2024. A table listing the FY 2019 projects and topic areas follows.

FY 2019 awards under ALN 84.263C | Grantee project name/topic area
H263C190004 | Emporia State University: Enhancing VR Professionals' Services to Consumers on the Spectrum/VR Services to Individuals with Autism Spectrum Disorder.
H263C190006 | South Carolina State University: Innovative Career and Assessment Project (ICAP)/Career Assessment for VR Service Recipients.
H263C190007 | The George Washington University Center for Rehabilitation Counseling Research and Education: Center for Innovative Training in Vocational Rehabilitation (CIT-VR)/VR Counseling.
H263C190011 | Institute for Community Inclusion, University of Massachusetts Boston: It's Employment/VR Services to Individuals with Intellectual Disabilities.
H263C190012 | Institute for Community Inclusion, University of Massachusetts Boston: Program on Innovative Rehabilitation Training on Employer Engagement (PIRTEE)/Employer Engagement.
H263C190013 | West Virginia University Research Corporation: AIR4VR/Field-Initiated.
H263C190015 | University of Memphis Institute on Disability: Finding Innovative Rehabilitation Services Training (FIRST)/VR Services to Individuals with Intellectual Disabilities.

In FY 2020, the Department funded two projects under the Innovative Rehabilitation Training program (ALN 84.263E and 84.263F) to develop a new or substantially improved and, to the extent possible, evidence-based training program, including stand-alone modules and instructional materials to be incorporated into an existing academic degree program for educating VR counselors or other VR professionals and VR paraprofessionals or into short-term training for VR professionals, or both. Topics addressed by these projects are assisting and supporting individuals with disabilities pursuing self-employment, business ownership, and telecommuting and forensic rehabilitation and vocational evaluation. The project periods started on October 1, 2020, and will conclude on September 30, 2025.

Waivers and Extensions

The Department proposes to extend the project end dates of the seven currently 84.263C Innovative Rehabilitation Training projects by one year to align those dates with that of the awards funded under ALN 84.263E and 84.263F, which will each receive their final year of funding in FY 2024, and end on September 30, 2025. Due to the overlapping goals of these three programs, the Department does not believe that it would be in the public interest to run a competition for ALN 84.263C in FY 2024. Rather, aligning the projects' periods of performance end dates for ALN 84.263C, 84.263E, and 84.263F would reduce financial and administrative burden by allowing the Department to conduct a single competition for all 84.263C, 84.263E, and 84.263F grants in FY 2025, with a five-year performance period that would run from October 1, 2025, through September 30, 2030.

As a result, for these projects, the Secretary proposes to waive the requirements in 34 CFR 75.250, which prohibit project periods exceeding five years, as well as the requirements in 34 CFR 75.261(a) and (c)(2), which allow the extension of a project period only if the extension does not involve the obligation of additional Federal funds. The waiver would allow the Department to issue a one-time one-year FY 2024 continuation award to the seven currently funded 84.263C projects up to the amount awarded to the projects in FY 2023 and subject to the ability of the projects to use the funds.

Any activities carried out during the year of this continuation award must be consistent with, or a logical extension of, the scope, goals, and objectives of the grantees' applications as approved in the FY 2019 competition. The requirements for continuation awards are set forth in 34 CFR 75.253.

Intergovernmental Review

These programs are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Regulatory Flexibility Act Certification

The Secretary certifies that the proposed waiver and extension of the project period would not have a significant economic impact on a substantial number of small entities. The only entities that would be affected by the proposed waiver and extension of the project period are the seven current ALN 84.263C grantees.

The Secretary certifies that the proposed waiver and extension would not have a significant economic impact on these entities, because the extension of an existing project period imposes minimal compliance costs, and the activities required to support the additional year of funding would not impose additional regulatory burdens or require unnecessary Federal supervision.

Paperwork Reduction Act of 1995

This notice of proposed waiver and extension of the project period does not contain any information collection requirements.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.

[FR Doc. 2023-21852 Filed 9-29-23; 11:15 am]

BILLING CODE 4000-01-P